DEPARTMENT OF TRANSPORTATION

Federal Aviation Administration

14 CFR Part 39

[Docket No. FAA-2007-28941; Directorate Identifier 2006-NM-276-AD]

RIN 2120-AA64

Airworthiness Directives; Dassault Model Falcon 2000, Falcon 2000EX, Mystere-Falcon 900, Falcon 900EX, Fan Jet Falcon, Mystere-Falcon 50, Mystere-Falcon 20, Mystere-Falcon 200, and Falcon 10 Airplanes

AGENCY: Federal Aviation Administration (FAA), Department of Transportation (DOT).

ACTION: Notice of proposed rulemaking (NPRM).

SUMMARY: The FAA proposes to supersede an existing airworthiness directive (AD) that applies to all Dassault Model Falcon 2000, Mystere-Falcon 900, Falcon 900EX, Fan Jet Falcon, Mystere-Falcon 50, Mystere-Falcon 20, Mystere-Falcon 200, and Falcon 10 series airplanes. The existing AD currently requires repetitive tests and inspections to detect discrepancies of the overwing emergency exit, and corrective action if necessary. This proposed AD would expand the applicability of the existing AD and extend the repetitive test and inspection interval for all airplanes. This proposed AD results from reports of incorrect operation of the overwing emergency exit due to interference between the emergency exit and the interior accommodation. We are proposing this AD to prevent failure of the overwing emergency exits to open, and consequent injury to passengers or crew members during an emergency evacuation.

DATES: We must receive comments on this proposed AD by September 17, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: U.S. Department of Transportation, Docket Operations, M-30, West Building Ground Floor, Room W12-140, 1200 New Jersey Avenue, SE., Washington, DC 20590.

• Fax: (202) 493-2251.

• Hand Delivery: Room W12-140 on the ground floor of the West Building, 1200 New Jersey Avenue, SE., Washington, DC, between 9 a.m. and 5 p.m., Monday through Friday, except Federal holidays.

Contact Dassault Falcon Jet, P.O. Box 2000, South Hackensack, New Jersey 07606, for service information identified in this proposed AD.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Comments Invited

We invite you to submit any relevant written data, views, or arguments regarding this proposed AD. Send your comments to an address listed in the ADDRESSES section. Include the docket number “Docket No. FAA-2007-28941; Directorate Identifier 2006-NM-276-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Operations office between 9 a.m. and 5 p.m., Monday through Friday, except Federal holidays. The Docket Operations office (telephone (800) 647-5527) is located on the ground level of the West Building at the DOT street address stated in the ADDRESSES section. Comments will be available in the AD docket shortly after the Docket Management System receives them.

Discussion

On June 9, 2000, we issued AD 2000-12-15, amendment 39-11793 (65 FR 37480, June 15, 2000), for all Dassault Model Falcon 2000, Mystere-Falcon 900, Falcon 900EX, Fan Jet Falcon, Mystere-Falcon 50, Mystere-Falcon 20, Mystere-Falcon 200, and Falcon 10 series airplanes. That AD requires repetitive tests and inspections to detect discrepancies of the overwing emergency exit, and corrective action if necessary. That AD resulted from issuance of mandatory continuing airworthiness information by a foreign civil airworthiness authority. We issued that AD to prevent failure of the overwing emergency exits to open, and consequent injury to passengers or crew members during an emergency evacuation.

Actions Since Existing AD Was Issued

Since we issued AD 2000-12-15, the European Aviation Safety Agency (EASA), which is the Technical Agent for the Member States of the European Community, has issued the following EASA airworthiness directives, all dated June 7, 2006:

• 2006-0147 (for Model Falcon 10 airplanes);

• 2006-0148 (for Model Falcon 2000 and Falcon 2000EX airplanes);

• 2006-0149 (for Model Mystere-Falcon 50, Mystere-Falcon 900, and Falcon 900EX airplanes); and

• 2006-0156 (for Model Fan Jet Falcon, Mystere-Falcon 20, and Mystere-Falcon 200 airplanes).

The EASA airworthiness directives supersede the Direction Générale de l'Aviation Civile (DGAC) airworthiness directives referenced in the existing AD for accomplishing the required actions. The DGAC airworthiness directives require repeating the operational test and inspection at intervals not to exceed 13 months; the EASA airworthiness directives extend that interval to 24 months, and EASA airworthiness directive 2006-0148 adds Model Falcon 2000EX to the applicability specified in the existing AD.

FAA's Determination and Requirements of the Proposed AD

These airplanes are manufactured in France and are type certificated for operation in the United States under the provisions of section 21.29 of the Federal Aviation Regulations (14 CFR 21.29) and the applicable bilateral airworthiness agreement. Pursuant to this bilateral airworthiness agreement, the EASA has kept the FAA informed of the situation described above. We have examined the EASA's findings, evaluated all pertinent information, and determined that AD action is necessary for airplanes of this type design that are certificated for operation in the United States.

This proposed AD would supersede AD 2000-12-15 and would retain the requirements of the existing AD. This proposed AD would expand the applicability of the existing AD and extend the repetitive test and inspection interval for all airplanes.

Explanation of Changes Made to Existing AD

This proposed AD would retain all requirements of AD 2000-12-15. Since that AD was issued, the AD format has been revised, and certain paragraphs have been rearranged. As a result, the corresponding paragraph identifiers have changed in this proposed AD, as listed in the following table:

Revised Paragraph Identifiers
Requirement in AD 2000-12-15 | Corresponding requirement in this proposed AD
Paragraph (a) | Paragraph (f).
Paragraph (b) | Paragraph (h).
Paragraph (c) | Paragraph (i).

On July 10, 2002, the FAA issued a new version of 14 CFR part 39 (67 FR 47997, July 22, 2002), which governs the FAA's airworthiness directives system. The regulation now includes material that relates to altered products, special flight permits, and alternative methods of compliance. However, for clarity and consistency in this proposed AD, we have retained the language of the existing AD regarding that material.

We have clarified the inspection requirement contained in the proposed AD. Whereas the existing AD specifies a detailed visual inspection, we have revised this proposed AD to clarify that our intent is to require a detailed inspection. Additionally, a note has been added to the proposed AD to define that inspection.

We have revised the existing AD to clarify the appropriate procedure for notifying the principal inspector before using any approved alternative method of compliance (AMOC) on any airplane to which the AMOC applies.

We have revised the applicability of the existing AD to identify model designations as published in the most recent type certificate data sheet for the affected models.

After the existing AD was issued, we reviewed the figures we have used over the past several years to calculate AD costs to operators. To account for various inflationary costs in the airline industry, we find it necessary to increase the labor rate used in these calculations from $60 per work hour to $80 per work hour. The cost impact information, below, reflects this increase in the specified hourly labor rate.

Costs of Compliance

This proposed AD would affect about 870 airplanes of U.S. registry.

The actions that are required by AD 2000-12-15 and retained in this proposed AD take about 1 work hour per airplane, at an average labor rate of $80 per work hour. Based on these figures, the estimated cost of the currently required actions is $80 per airplane, per test and inspection cycle.

The new proposed actions would take about 1 work hour per airplane, at an average labor rate of $80 per work hour. Based on these figures, the estimated cost of the new actions specified in this proposed AD for U.S. operators is $69,600, or $80 per airplane, per test and inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-11793 (65 FR 37480, June 15, 2000) and adding the following new airworthiness directive (AD):

Dassault Aviation (Formerly Avions Marcel Dassault-Breguet Aviation (AMD/BA)): Docket No. FAA-2007-28941; Directorate Identifier 2006-NM-276-AD.

Comments Due Date

(a) The FAA must receive comments on this AD action by September 17, 2007.

Affected ADs

(b) This AD supersedes AD 2000-12-15.

Applicability

(c) This AD applies to all Dassault Model Falcon 2000, Falcon 2000EX, Mystere-Falcon 900, Falcon 900EX, Fan Jet Falcon, Mystere-Falcon 50, Mystere-Falcon 20, Mystere-Falcon 200, and Falcon 10 airplanes, certificated in any category.

Unsafe Condition

(d) This AD results from a report of incorrect operation of the overwing emergency exit. We are issuing this AD to prevent failure of the overwing emergency exits to open, and consequent injury to passengers or crew members during an emergency evacuation.

Compliance

(e) You are responsible for having the actions required by this AD performed within the compliance times specified, unless the actions have already been done.

Restatement of Requirements of AD 2000-12-15 With Revised Repetitive Interval

Operational Test and Inspection

(f) For Dassault Model Falcon 2000, Mystere-Falcon 900, Falcon 900EX, Fan Jet Falcon, Mystere-Falcon 50, Mystere-Falcon 20, Mystere-Falcon 200, and Falcon 10 airplanes: Within 30 days after July 20, 2000 (the effective date of AD 2000-12-15), perform an operational test and detailed inspection of the overwing emergency exit from inside the cabin to detect discrepancies (including separation, tearing, wearing, arcing, cracking) in the areas and components listed in Chapter 5 (ATA Code 52) of the applicable airplane maintenance manual (AMM). Accomplish the actions in accordance with the applicable AMM. If any discrepancy is detected during any test or inspection required by this paragraph, prior to further flight, repair in accordance with Chapter 5 (ATA Code 52) of the applicable AMM. Repeat the operational test and inspection thereafter at intervals not to exceed 24 months.

Note 1: For the purposes of this AD, a detailed inspection is: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

New Requirements of This AD

Operational Test and Inspection

(g) For Dassault Model Falcon 2000EX airplanes: Within 30 days after the effective date of this AD, perform the operational test and detailed inspection of the overwing emergency exit required by paragraph (f) of this AD. If any discrepancy is detected during any test or inspection required by this paragraph, prior to further flight, repair as required by paragraph (f). Repeat the operational test and inspection at intervals not to exceed 24 months.

Alternative Methods of Compliance (AMOCs)

(h)(1) The Manager, International Branch, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Special Flight Permits

(i) Special flight permits may be issued in accordance with sections 21.197 and 21.199 of the Federal Aviation Regulations (14 CFR 21.197 and 21.199) to operate the airplane to a location where the requirements of this AD can be accomplished.

Related Information

(j) European Aviation Safety Agency airworthiness directives 2006-0147, 2006-0148, 2006-0149, and 2006-0156, all dated June 7, 2006, also address the subject of this AD.

Issued in Renton, Washington, on July 30, 2007.
Ali Bahrami,
Manager, Transport Airplane Directorate, Aircraft Certification Service.

[FR Doc. E7-16124 Filed 8-15-07; 8:45 am]

BILLING CODE 4910-13-P